DEPARTMENT OF THE INTERIOR

National Park Service

[2253-665]

Notice of Intent To Repatriate Cultural Items: The Colorado College, Colorado Springs, CO

AGENCY: National Park Service, Interior.

ACTION: Notice.

SUMMARY: The Colorado College, in consultation with the appropriate Indian tribe, has determined that the cultural items meet the definition of unassociated funerary objects and repatriation to the Hopi Tribe of Arizona may occur if no additional claimants come forward. Representatives of any Indian tribe that believes itself to be culturally affiliated with the cultural items may contact The Colorado College.

DATES: Representatives of any Indian tribe that believes it has a cultural affiliation with the cultural items should contact The Colorado College at the address below by April 16, 2012.

ADDRESSES: Jermyn Davis, Chief of Staff, President's Office, Colorado College, Armstrong Hall, Room 201, 14 E. Cache La Poudre, Colorado Springs, CO 80903, telephone (719) 389-6201.

SUPPLEMENTARY INFORMATION: Notice is hereby given in accordance with the Native American Graves Protection and Repatriation Act (NAGPRA), 25 U.S.C. 3005, of the intent to repatriate cultural items under the control of The Colorado College that meet the definition of unassociated funerary objects under 25 U.S.C. 3001.

This notice is published as part of the National Park Service's administrative responsibilities under NAGPRA, 25 U.S.C. 3003(d)(3). The determinations in this notice are the sole responsibility of the museum, institution or Federal agency that has control of the Native American cultural items. The National Park Service is not responsible for the determinations in this notice.

History and Description of the Cultural Items

The 36 unassociated funerary objects are ceramic vessels, at least two of which contain corn. The vessels are bowls, mugs, pitchers, vases (seed jars), jars and ladles. The vessel styles are black-on-gray, black-on-white, Tusayan black-on-red, corrugated and gray ware. Between 1897 and 1898, human remains, associated and unassociated funerary objects, as well as other cultural items were removed from a cliff ruin in a canyon tributary of Comb Wash, San Juan County, UT, under the auspices of the Lang Expedition of 1897-1898. Prior to 1900, General William Jackson Palmer acquired what became known as the Lang-Bixby Collection, which he subsequently transferred to The Colorado College. Beginning in the late 1960s, the Lang-Bixby Collection was transferred, along with other collections from The Colorado College Museum, through long-term loans to the Fine Arts Center (formerly known as the Taylor Museum and the Colorado Springs Fine Arts Center) and the Denver Museum of Nature & Science (formerly known as the Denver Museum of Natural History). In 1993, the Fine Arts Center included the unassociated funerary objects from the Lang-Bixby Collection in its NAGPRA summary.

The unassociated funerary objects are ancestral Puebloan based on type and style. The human remains and associated funerary objects from this collection were described in two Notices of Inventory Completion (NICs) published in the Federal Register (74 FR 42105-42106, August 20, 2009, and 69 FR 19232-19233, April 12, 2004). The human remains and associated funerary objects were determined to be Ancestral Puebloan. A relationship of shared group identity can reasonably be traced between ancestral Puebloan peoples and modern Puebloan peoples based on oral tradition and scientific studies. The human remains and associated funerary objects have been repatriated to the Hopi Tribe of Arizona. A preponderance of the evidence supports cultural affiliation of the unassociated funerary objects to the Hopi Tribe of Arizona.

Determinations Made by The Colorado College

Officials of The Colorado College have determined that:

• Pursuant to 25 U.S.C. 3001(3)(B), the 36 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona.

Additional Requestors and Disposition

Representatives of any other Indian tribe that believes itself to be culturally affiliated with the unassociated funerary objects should contact Jermyn Davis, Chief of Staff, President's Office, Colorado College, Armstrong Hall, Room 201, 14 E. Cache La Poudre, Colorado Springs, Colorado 80903, telephone (719) 389-6201, before April 16, 2012. Repatriation of the unassociated funerary objects to the Hopi Tribe of Arizona may proceed after that date if no additional claimants come forward.

The Colorado College is responsible for notifying the Hopi Tribe of Arizona that this notice has been published.

Dated: March 12, 2012.
Sherry Hutt,
Manager, National NAGPRA Program.

[FR Doc. 2012-6330 Filed 3-15-12; 8:45 am]

BILLING CODE 4312-50-P